DEPARTMENT OF TRANSPORTATION

Federal Aviation Administration

14 CFR Part 39

[Docket No. FAA-2013-0888; Directorate Identifier 2013-CE-024-AD]

RIN 2120-AA64

Airworthiness Directives; Costruzioni Aeronautiche Tecnam srl Airplanes

AGENCY: Federal Aviation Administration (FAA), Department of Transportation (DOT).

ACTION: Notice of proposed rulemaking (NPRM).

SUMMARY: We propose to adopt a new airworthiness directive (AD) for Costruzioni Aeronautiche Tecnam srl Model P2006T airplanes. This proposed AD results from mandatory continuing airworthiness information (MCAI) originated by an aviation authority of another country to identify and correct an unsafe condition on an aviation product. The MCAI describes the unsafe condition as cracks of the nose landing gear (NLG) lower link. We are issuing this proposed AD to require actions to address the unsafe condition on these products.

DATES: We must receive comments on this proposed AD by December 9, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Costruzioni Aeronautiche Tecnam Airworthiness Office, Via Maiorise-81043 Capua (CE) Italy; telephone: +39 0823 620134; fax: +39 0823 622899; email: m.oliva@tecnam.com or g.paduano@tecnam.com; Internet: www.tecnam.com/it-IT/documenti/service-bulletins.aspx. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Albert Mercado, Aerospace Engineer, FAA, Small Airplane Directorate, 901 Locust, Room 301, Kansas City, Missouri 64106; telephone: (816) 329-4119; fax: (816) 329-4090; email: albert.mercado@faa.gov.

SUPPLEMENTARY INFORMATION:

Comments Invited

We invite you to send any written relevant data, views, or arguments about this proposed AD. Send your comments to an address listed under the ADDRESSES section. Include “Docket No. FAA-2013-0888; Directorate Identifier 2013-CE-024-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2013-0134, dated July 2, 2013 (referred to after this as “the MCAI”), to correct an unsafe condition for the specified products. The MCAI states:

During an inspection of a P2006T, a nose landing gear (NLG) lower link was found with two cracks. The affected NLG lower link is part of NLG lower link assembly P/N 26-8-1417-000.

This condition, if not detected and corrected, could lead to NLG failure, possibly resulting in damage to the aeroplane and injury to the occupants.

To address this potential unsafe condition, Costruzioni Aeronautiche Tecnam (hereafter referred to as Tecnam) issued Service Bulletin (SB) SB-128-CS, providing inspection instructions. Tecnam also developed an improved NLG lower link assembly with P/N 26-8-8000-000, which can be installed in service by accomplishment of Tecnam SB-104-CS.

For the reasons described above, this AD requires, for aeroplanes equipped with NLG lower link assembly P/N 26-8-1417-000, a one-time inspection of the NLG lower link and, depending on findings, accomplishment of the applicable corrective action. This AD also requires installation of the improved NLG lower link assembly P/N 26-8-8000-000.

You may obtain further information by examining the MCAI on the Internet at http://www.regulations.gov by searching for and locating it in Docket No. FAA-2013-0888.

Relevant Service Information

Costruzioni Aeronautiche Tecnam srl issued Service Bulletin No. SB 104-CS, Edition 2, Revision 1, dated March 28, 2013 (now superseded); Service Bulletin No. SB 128-CS, Revision 0, dated May 15, 2013; Job Card 442, Revision 1, dated February 11, 2013; Job Card 468, dated October 12, 2012; and Job Card 528, Revision 1, dated April 2, 2013. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 7 products of U.S. registry. We also estimate that it would take about .5 work-hour per product to comply with the basic requirements of this proposed AD. The average labor rate is $85 per work-hour. Required parts would cost about $0 per product.

Based on these figures, we estimate the cost of the proposed AD on U.S. operators to be $297.50, or $42.50 per product.

In addition, we estimate that any necessary follow-on actions would take about 6 work-hours and require parts costing $1,800, for a cost on U.S. operators of $16,170, or $2,310 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Costruzioni Aeronautiche Tecnam srl: Docket No. FAA-2013-0888; Directorate Identifier 2013-CE-024-AD.

(a) Comments Due Date

We must receive comments by December 9, 2013.

(b) Affected ADs

None.

(c) Applicability

This AD applies to Costruzioni Aeronautiche Tecnam srl Model P2006T airplanes, serial numbers (S/N) 001/US through S/N 9999/US, certificated in any category.

(d) Subject

Air Transport Association of America (ATA) Code 32: Landing Gear.

(e) Reason

This AD was prompted by mandatory continuing airworthiness information (MCAI) originated by an aviation authority of another country to identify and correct an unsafe condition on an aviation product. The MCAI describes the unsafe condition as cracking of the nose landing gear (NLG) lower link. We are issuing this AD to detect and correct cracks in an NLG lower link, which could lead to NLG failure, possibly resulting in damage to the airplane and injury to the occupants.

(f) Actions and Compliance

Unless already done, do the following actions as specified in paragraphs (f)(1) through (f)(5) of this AD:

(1) For airplanes with an NLG lower link assembly part number (P/N) 26-8-1417-000 installed, within the next 25 hours time-in-service (TIS) after the effective date of this AD or within the next 30 days after the effective date of this AD, whichever occurs first, do a detailed inspection of the NLG lower link part (this is in the NLG -000 assembly) P/N 26-8-1417-1 following the INSPECTION/REPLACEMENT INSTRUCTIONS of Costruzioni Aeronautiche Tecnam Service Bulletin No. SB 128-CS, Revision 0, dated May 15, 2013.

(2) If a crack is detected during the inspection required by paragraph (f)(1) of this AD, before further flight, replace the NLG lower link assembly with an improved assembly. Follow, as applicable, sections 1 through 8 (including subparagraphs) of Costruzioni Aeronautiche Tecnam Job Card 442, Revision 1, dated February 11, 2013; sections 1 through 7 (including subparagraphs) of Costruzioni Aeronautiche Tecnam Job Card 468, dated October 12, 2012; or sections 1 through 6 (including subparagraphs) of Costruzioni Aeronautiche Tecnam Job Card 528, Revision 1, dated April 2, 2013, as specified in the Required Material section of Costruzioni Aeronautiche Tecnam Service Bulletin No. SB 128-CS, Revision 0, dated May 15, 2013; and as specified in the INSPECTION/REPLACEMENT INSTRUCTIONS of Costruzioni Aeronautiche Tecnam Service Bulletin No. SB 128-CS, Revision 0, dated May 15, 2013.

Note 1 to paragraphs (f)(2) and (f)(3): Although Costruzioni Aeronautiche Tecnam Job Card 442, Revision 1, dated February 11, 2013, is designated P2006T NLG upper link replacement, it still pertains to the replacement of the lower link.

(3) Unless already done as required by paragraph (f)(2) of this AD, within the next 50 hours TIS after the effective date of this AD or within the next 60 days after the effective date of this AD, whichever occurs first, replace the NLG lower link assembly P/N 26-8-1417-000 with an improved assembly. Follow, as applicable, sections 1 through 8 (including subparagraphs) of Costruzioni Aeronautiche Tecnam Job Card 442, Revision 1, dated February 11, 2013; sections 1 through 7 (including subparagraphs) of Costruzioni Aeronautiche Tecnam Job Card 468, dated October 12, 2012; or sections 1 through 6 (including subparagraphs) of Costruzioni Aeronautiche Tecnam Job Card 528, Revision 1, dated April 2, 2013, as specified in the Required Material section of Costruzioni Aeronautiche Tecnam Service Bulletin No. SB 128-CS, Revision 0, dated May 15, 2013; and as specified in the INSPECTION/REPLACEMENT INSTRUCTIONS of Costruzioni Aeronautiche Tecnam Service Bulletin No. SB 128-CS, Revision 0, dated May 15, 2013.

(4) After modification of an airplane as required by paragraph (f)(2) or (f)(3) of this AD, as applicable, do not install an NLG lower link assembly P/N 26-8-1417-000 or an NLG lower link part (this is in the NLG -000 assembly) P/N 26-8-1417-1 on that airplane.

(5) For an airplane with an NLG lower link assembly P/N 26-8-8000-000 already installed, after the effective date of this AD, do not install a NLG lower link assembly P/N 26-8-1417-000 or a NLG lower link P/N 26-8-1417-1 on that airplane.

(h) Credit for Actions Done Following Previous Service Information

This AD provides credit for the initial inspection required in paragraph (f)(1) of this AD and any necessary replacement required in paragraphs (f)(2) and (f)(3) of this AD if already done before the effective date of this AD following Costruzioni Aeronautiche Tecnam Service Bulletin No. SB 104-CS, Edition 2, Revision 1, dated March 28, 2013.

(g) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0134, dated July 2, 2013 for more information. You may examine the MCAI on the Internet at http://www.regulations.gov by searching for and locating it in Docket No. FAA-2013-0888. For service information related to this AD, contact Costruzioni Aeronautiche Tecnam Airworthiness Office, Via Maiorise-81043 Capua (CE) Italy; telephone: +39 0823 620134; fax: +39 0823 622899; email: m.oliva@tecnam.com or g.paduano@tecnam.com; Internet: www.tecnam.com/it-IT/documenti/service-bulletins.aspx. You may review copies of the referenced service information at the FAA, Small Airplane Directorate, 901 Locust, Kansas City, Missouri 64106. For information on the availability of this material at the FAA, call (816) 329-4148.

Issued in Kansas City, Missouri, on October 18, 2013.
Earl Lawrence,
Manager, Small Airplane Directorate, Aircraft Certification Service.

[FR Doc. 2013-25137 Filed 10-24-13; 8:45 am]

BILLING CODE 4910-13-P